DEPARTMENT OF HEALTH AND HUMAN SERVICES

National Institutes of Health

National Cancer Institute; Amended Notice of Meeting

Notice is hereby given of a change in the meeting of the Board of Scientific Counselors, National Cancer Institute, March 04, 2024, 11:00 a.m. to March 05, 2024, 01:30 p.m., National Cancer Institute, 9609 Medical Center Drive, Rockville, MD, 20892 which was published in the Federal Register on October 30, 2023, FR Doc 2023-23881, 88 FR 74198.

This notice is being amended to change the meeting start and end times on March 4-5, 2024. On March 4, 2024, the open session will now be held from 10:00 a.m. to 10:45 a.m. and the closed session will now be held from 11:00 a.m. to 4:10 p.m. On March 5, 2024, the closed session will now be held from 10:00 a.m. to 12:30 p.m. The meeting will be held as a virtual meeting and is partially closed to the public.

Dated: January 24, 2024.
Melanie J. Pantoja,
Program Analyst, Office of Federal Advisory Committee Policy.

[FR Doc. 2024-01777 Filed 1-29-24; 8:45 am]

BILLING CODE 4140-01-P